DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of November and December 2005.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either:

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of section 222 have been met.

TA-W-58,002; Mid Continent Nail, Keystone Fasteners, Springdale, AR, September 21, 2004.

TA-W-58,073; Motion Control Engineering, Inc., Schindler Elevator Corp., DBA O'Thompson Co., Glendale, NY, October 5, 2004.

TA-W-58,143; Gunderson LLC, Portland, OR, October 14, 2004.

TA-W-58,152; Native Textiles, Inc., Glens Falls, NY, October 17, 2004.

TA-W-58,163; V.C. Originals, Ridgeland, MS, September 20, 2004.

TA-W-58,165; Crane Plumbing, L.L.C., Ferguson, KY, October 6, 2004.

TA-W-58,167; Galgon Industries, Inc., Building 5, Fremont, CA, October 6, 2004.

TA-W-58,178; Bassett Furniture Industries, Inc., Workforce Carolina and Ablest Staffing, Mt. Airy, NC, October 20, 2004.

TA-W-58,179; Oakwood Furniture Mfg., Inc., New Tazewell, TN, October 20, 2004.

TA-W-58,182; Meridian Beartrack Company, Div. of Meridan Gold Company, Salmon, ID, August 25, 2005.

TA-W-58,192; Kim Bo Sewing Co., San Francisco, CA, October 7, 2004.

TA-W-58,194; Springs Industries, Inc., Customer Service Center, Lancaster, SC, October 20, 2004.

TA-W-58,198; Carpostan Yarn, Inc., Lake View, SC, October 18, 2004.

TA-W-58,199; Carpostan Industries, Inc., Lake View, SC, October 18, 2004.

TA-W-58,200; Lake View Finishing, Inc., Lake View, SC, October 18, 2004.

TA-W-58,206; B and J Knits, Inc., Statesville, NC, October 20, 2004.

TA-W-58,212; Wright Products Co., Truth Hardware Division, A Subsidiary of FKI Industries, Rice Lake, WI, February 27, 2005.

TA-W-58,215; Bespak, Inc., Apex, NC, October 25, 2004.

TA-W-58,234; Hearthstone Enterprises, Charleston Forge Main Plant (Plant 1), Boone, NC, October 28, 2004.

TA-W-58,234A; Hearthstone Enterprises, Charleston Forge (Plant 2), Boone, NC, October 28, 2004.

TA-W-58,234B; Hearthstone Enterprises, Charleston Forge (Plant 5), Boone, NC, October 28, 2004.

TA-W-58,246; Fibrex, LLC, Formerly Wellington Cordage, LLC, Madison, GA, November 27, 2005.

TA-W-58,312; Gilbert Hose, Hickory, NC, November 9, 2004.

TA-W-58,387; Koret of California, Inc., A Subsidiary of Kellwood Co., Sample Production Workers, Oakland, CA, November 4, 2004.

The following certifications have been issued. The requirements of (a)(2)(B) (shift in production) of section 222 have been met.

TA-W-58,068; Photocircuits Corporation, Peachtree City, GA, August 8, 2005.

TA-W-58,191; Brown Jordan Co., Buff and Grind Dept. & Painting Line Dept, El Monte, CA, October 11, 2004.

TA-W-58,214; Quincrafts Corporation, A Subsidiary of Colorbook, Including On-Site Leased Workers of QRI, Pawtucket, RI, October 20, 2004.

TA-W-58,303; Ciba Specialty Chemicals Corp., Textile Effects, Including On-Site Leased Workers of Aerotek and WSI, Charlotte, NC, November 8, 2004.

TA-W-58,350; Raytheon Aircraft Company, Wire Harness Assembly Operations, Wichita, KS, December 23, 2005.

TA-W-58,350A; Raytheon Aircraft Company, Wire Harness Assembly Operations, Salina, KS, December 23, 2005.

The following certification has been issued.

The requirement of supplier to a trade certified firm has been met.

TA-W-58,278; Bangor Electronics Co., Bangor, MI, November 1, 2004.

The following certification has been issued.

The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,320; Johnson Hosiery Mills, Inc., Fort Payne, AL.

TA-W-58,322; Pioneer Knitting Mills, Fort Payne, AL.

TA-W-58,325; Capstone Hosiery, LLC, Fort Payne, AL.

The investigation revealed that criteria (a)(2)(A)(I.B.) (Sales or production, or both, did not decline) and (a)(2)(B)(II.B) (No shift in production to a foreign country) have not been met.

TA-W-58,065; Keebler Company, Kellogg's Snacks, Macon, GA.

The investigation revealed that criteria (a)(2)(A)(I.C.) (increased imports) and (a)(2)(B)(II.B) (No shift in production to a foreign country) have not been met.

TA-W-58,058; Wizard Textiles, Inc., Newark, NJ.

TA-W-58,172; Pioneer Americas LLC, Tacoma Plant, Tacoma, WA.

TA-W-58,173; Cargill, Inc., Jefferson, WI.

TA-W-58,242; Visteon Systems LLC, North Penn Electronics Facility, Lansdale, PA.

TA-W-58,279; Jones Apparel Group, AM-1 Room, Bristol, PA.

TA-W-58,279A; Jones Apparel Group, Bristol Distribution Center, Bristol, PA.

TA-W-58,161; Maxi Seal Harness Systems, Inc., Garland, TX.

The investigation revealed that criteria (a)(2)(A)(I.C.) (Increased imports) and (a)(2)(B)(II.C) (has shifted production to a foreign country) have not been met.

None.

The workers firm does not produce an article as required for certification under section 222 of the Trade Act of 1974.

TA-W-58,114; Alcatel USA, Plano, TX.

TA-W-58,243; SavaJe Technologies, Chelmsford, MA.

TA-W-58,261; Alliance Consulting Group Associates, Corporate Office and Operations Group, Philadelphia, PA.

The investigation revealed that criteria (2) has not been met. The workers firm (or subdivision) is not a supplier or downstream producer to trade-affected companies.

None.

Affirmative Determinations for Alternative Trade Ajdustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-58,178; Bassett Furniture Industries, Inc., Workforce Carolina and Ablest Staffing, Mt. Airy, NC, October 20, 2004.

TA-W-58,194; Springs Industries, Inc., Customer Service Center, Lancaster, SC, October 20, 2004.

TA-W-58,215; Bespak, Inc., Apex, NC, October 25, 2004.

TA-W-58,246; Fibrex, LLC, Formerly Wellington Cordage, LLC, Madison, GA, November 27, 2005.

TA-W-58,387; Koret of California, Inc., A Subsidiary of Kellwood Co., Sample Production Workers, Oakland, CA, November 4, 2004.

TA-W-58,002; Mid Continent Nail, Keystone Fasteners, Springdale, AR, September 21, 2004.

TA-W-58,073; Motion Control Engineering, Inc., Schindler Elevator Corp., DBA O'Thompson Co., Glendale, NY, October 5, 2004.

TA-W-58,152; Native Textiles, Inc., Glens Falls, NY, October 17, 2004.

TA-W-58,165; Crane Plumbing, L.L.C., Ferguson, KY, October 6, 2004.

TA-W-58,179; Oakwood Furniture Mfg., Inc., New Tazewell, TN, October 20, 2004.

TA-W-58,198; Carpostan Yarn, Inc., Lake View, SC, October 18, 2004.

TA-W-58,199; Carpostan Industries, Inc., Lake View, SC, October 18, 2004.

TA-W-58,200; Lake View Finishing, Inc., Lake View, SC, October 18, 2004.

TA-W-58,234; Hearthstone Enterprises, Charleston Forge Main Plant (Plant 1), Boone, NC, October 28, 2004.

TA-W-58,234A; Hearthstone Enterprises, Charleston Forge (Plant 2), Boone, NC, October 28, 2004.

TA-W-58,234B; Hearthstone Enterprises, Charleston Forge (Plant 5), Boone, NC, October 28, 2004.

TA-W-58,312; Gilbert Hose, Hickory, NC, November 9, 2004.

TA-W-58,192; Kim Bo Sewing Co., San Francisco, CA, October 7, 2004.

TA-W-58,191; Brown Jordan Co., Buff and Grind Dept. & Painting Line Dept, El Monte, CA, October 11, 2004.

TA-W-58,303; Ciba Specialty Chemicals Corp., Textile Effects, Including On-Site Leased Workers of Aerotek and WSI, Charlotte, NC, November 8, 2004.

TA-W-58,350; Raytheon Aircraft Company, Wire Harness Assembly Operations, Wichita, KS, December 23, 2005.

TA-W-58,350A; Raytheon Aircraft Company, Wire Harness Assembly Operations, Salina, KS, December 23, 2005.

TA-W-58,068; Photocircuits Corporation, Peachtree City, GA, August 8, 2005.

TA-W-58,278; Bangor Electronics Co., Bangor, MI, November 1, 2004.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,320; Johnson Hosiery Mills, Inc., Fort Payne, AL.

TA-W-58,322; Pioneer Knitting Mills, Fort Payne, AL.

TA-W-58,325; Capstone Hosiery, LLC, Fort Payne, AL.

TA-W-58,065; Keebler Company, Kellogg's Snacks, Macon, GA.

TA-W-58,058; Wizard Textiles, Inc., Newark, NJ.

TA-W-58,172; Pioneer Americas LLC, Tacoma Plant, Tacoma, WA.

TA-W-58,173; Cargill, Inc., Jefferson, WI.

TA-W-58,242; Visteon Systems LLC, North Penn Electronics Facility, Lansdale, PA.

TA-W-58,279; Jones Apparel Group, AM-1 Room, Bristol, PA.

TA-W-58,279A; Jones Apparel Group, Bristol Distribution Center, Bristol, PA.

TA-W-58,161; Maxi Seal Harness Systems, Inc., Garland, TX.

The Department has determined that criterion (1) of section 246 has not been met. Workers at the firm are 50 years of age or older.

TA-W-58,214; Quincrafts Corporation, A Subsidiary of Colorbook, Including On-Site Leased Workers of QRI, Pawtucket, RI.

TA-W-58,163; V.C. Originals, Ridgeland, MS.

TA-W-58,206; B and J Knits, Inc., Statesville, NC.

The Department has determined that criterion (2) of section 246 has not been met. Workers at the firm possess skills that are easily transferable.

TA-W-58,143; Gunderson LLC, Portland, OR.

TA-W-58,212; Wright Products Co., Truth Hardware Division, A Subsidiary of FKI Industries, Rice Lake, WI.

The Department has determined that criterion (3) of Section 246 has not been met. Competition conditions within the workers' industry are not adverse.

I hereby certify that the aforementioned determinations were issued during the month of November and December 2005. Copies of These determinations are available for inspection in Room C-5311, U.S. Department of Labor, 200 Constitution Avenue, NW., Washington, DC 20210 during normal business hours or will be mailed to persons who write to the above address.

Dated: December 14, 2005.
Erica R. Cantor,
Director, Division of Trade Adjustment Assistance.

[FR Doc. E5-7604 Filed 12-20-05; 8:45 am]

BILLING CODE 4510-30-P